DEPARTMENT OF ENERGY

Federal Energy Regulatory Commission

[Docket No. RP01-477-003]

TransColorado Gas Transmission Co.; Notice of Compliance Filing

November 5, 2001.

Take notice that on October 25, 2001, TransColorado Gas Transmission Company (TransColorado) tendered for filing of its FERC Gas Tariff, Original Volume No. 1, Substitute Alternate Second Revised First Revised Sheet No. 247B, to be effective August 1, 2001.

TransColorado states that the filing is being made in compliance with the Commission's October 12, 2001, order in Docket No. RP01-477-000.

On October 12, 2001, the Commission issued an order in Docket No. RP01-477-001 and -002 (the October 12th order) approving TransColorado's August 21, 2001, filing of alternate proposed Sheet No. 247B, subject to TransColorado filing, within 20 days, a revised tariff sheet to provide that: (1) TransColorado will accrue and credit interest, using the interest rate set out in 18 CFR 154.501(d), on penalty revenues beginning from the collection date until the date refunds are made and (2) the penalty revenues will be credited to shippers within 90 days after the end of each calendar year.

TransColorado states that a copy of this filing has been served upon TransColorado's customers, the Colorado Public Utilities Commission and New Mexico Public Utilities Commission.

Any person desiring to protest said filing should file a protest with the Federal Energy Regulatory Commission, 888 First Street, NE., Washington, DC 20426, in accordance with section 385.211 of the Commission's rules and regulations. All such protests must be filed in accordance with section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-28127 Filed 11-8-01; 8:45 am]

BILLING CODE 6717-01-P